NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) on October 8-9, 2015. A sample of agenda items to be discussed during the public session includes: (1) A discussion on training and experience for alpha and beta emitters; (2) a discussion on Title 10 of the Code of Federal Regulations (10 CFR) section 35.1000 licensing guidance for the use of iodine-125 and palladium-103 seeds for localization of non-palpable lesions; (3) a presentation on the proposed revisions to the 10 CFR 35.1000 licensing guidance for Yttrium-90 microspheres brachytherapy; (4) a status update on the decommissioning funding plan requirements for germanium-68/gallium-68 generators; (5) a discussion on the project and upcoming workshops related to patients who are administered radionuclides; (6) a discussion on NUREG 1556, Volume 9, “Consolidated Guidance About Materials Licenses: Program-Specific Guidance About Medical Use Licensees;” (7) an update on the current 10 CFR part 35 rulemaking effort; and (8) a presentation on the proposed revisions to the NRC's Abnormal Occurrence Reporting Criteria Policy Statement. The agenda is subject to change. The current agenda and any updates will be available at http://www.nrc.gov/reading-rm/doc-collections/acmui/meetings/2015.html or by emailing Ms. Sophie Holiday at the contact information below.

Purpose: Discuss issues related to 10 CFR part 35 “Medical Use of Byproduct Material.”

Date and Time for Closed Sessions: October 8, 2015, from 7:30 a.m. to 8:30 a.m. and October 8, 2015, from 3:30 p.m. to 5:30 p.m. Both sessions on October 8, 2015, will be closed for badging and enrollment for new members to the ACMUI and annual required training.

Date and Time for Open Sessions: October 8, 2015, from 8:30 a.m. to 3:30 p.m. and October 9, 2015, from 8:00 a.m. to 4:00 p.m.

Address for Public Meeting: U.S. Nuclear Regulatory Commission, Two White Flint North Building, Room T2-B3, 11545 Rockville Pike, Rockville, Maryland 20852.

Public Participation: Any member of the public who wishes to participate in the meeting in person or via phone should contact Ms. Holiday using the information below. The meeting will also be webcast live: video.nrc.gov.

FOR FURTHER INFORMATION CONTACT: Ms. Sophie J. Holiday, email: sophie.holiday@nrc.gov, telephone: (404) 997-4691.

Conduct of the Meeting

Bruce R. Thomadsen, Ph.D., will chair the meeting. Dr. Thomadsen will conduct the meeting in a manner that will facilitate the orderly conduct of business. The following procedures apply to public participation in the meeting:

1. Persons who wish to provide a written statement should submit an electronic copy to Ms. Holiday at the contact information listed above. All submittals must be received by October 5, 2015, and must pertain to the topic on the agenda for the meeting.

2. Questions and comments from members of the public will be permitted during the meeting, at the discretion of the Chairman.

3. The draft transcript and meeting summary will be available on ACMUI's Web site http://www.nrc.gov/reading-rm/doc-collections/acmui/meetings/2015.html on or about November 24, 2015.

4. Persons who require special services, such as those for the hearing impaired, should notify Ms. Holiday of their planned attendance.

This meeting will be held in accordance with the Atomic Energy Act of 1954, as amended (primarily Section 161a); the Federal Advisory Committee Act (5 U.S.C. App); and the Commission's regulations in 10 CFR part 7.

Dated at Rockville, Maryland, this 12th day of August, 2015.
For the Nuclear Regulatory Commission.
Andrew L. Bates,
Advisory Committee Management Officer.

[FR Doc. 2015-20364 Filed 8-17-15; 8:45 am]

BILLING CODE 7590-01-P